DEPARTMENT OF COMMERCE

International Trade Administration

President's Export Council: Meeting of the President's Export Council

AGENCY: International Trade Administration, U.S. Department of Commerce.

ACTION: Notice of an open meeting.

SUMMARY: The President's Export Council (Council) will hold a meeting to deliberate on recommendations related to promoting the expansion of U.S. exports. Priority topics will include: the Trans-Pacific Partnership and Board appointments for the Export-Import Bank of the United States. Additional topics may include: the Administration's trade agenda, infrastructure investment, workforce readiness, access to capital for microbusinesses and SMEs, and export control reform. The final agenda will be posted at least one week in advance of the meeting on the President's Export Council Web site at http://trade.gov/pec.

DATES: September 14, 2016 at 9:30 a.m. (ET)

ADDRESSES: The President's Export Council meeting will be broadcast via live webcast on the Internet at http://whitehouse.gov/live.

FOR FURTHER INFORMATION CONTACT: Tricia Van Orden, Designated Federal Officer, President's Export Council, Room 4043, 1401 Constitution Avenue NW., Washington, DC 20230, telephone: 202-482-5876, email: tricia.vanorden@trade.gov.

Press inquiries should be directed to the International Trade Administration's Office of Public Affairs, telephone: 202-482-3809.

SUPPLEMENTARY INFORMATION: Background: The President's Export Council was first established by Executive Order on December 20, 1973 to advise the President on matters relating to U.S. export trade and to report to the President on its activities and recommendations for expanding U.S. exports. The President's Export Council was renewed most recently by Executive Order 13708 of September 30, 2015, for the two-year period ending September 30, 2017. This Committee is established in accordance with the provisions of the Federal Advisory Committee Act (FACA), as amended, 5 U.S.C. App.

Public Submissions: The public is invited to submit written statements to the President's Export Council. Statements must be received by 5:00PM ET on September 12, 2016 by either of the following methods:

a. Electronic Submissions

Submit statements electronically to Tricia Van Orden, Executive Secretary, President's Export Council via email: tricia.vanorden@trade.gov.

b. Paper Submissions

Send paper statements to Tricia Van Orden, Designated Federal Officer, President's Export Council, Room 4043, 1401 Constitution Avenue NW., Washington, DC, 20230.

Statements will be posted on the President's Export Council Web site (http://trade.gov/pec) without change, including any business or personal information provided such as names, addresses, email addresses, or telephone numbers. All statements received, including attachments and other supporting materials, are part of the public record and subject to public disclosure. You should submit only information that you wish to make publicly available.

Meeting minutes: Copies of the Council's meeting minutes will be available within ninety (90) days of the meeting.

Dated: August 18, 2016.
Tricia Van Orden,
Designated Federal Officer, President's Export Council.

[FR Doc. 2016-20294 Filed 8-24-16; 8:45 am]

BILLING CODE 3510-DR-P